DEPARTMENT OF DEFENSE

Department of the Navy

[Docket ID: USN-2022-HQ-0023]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by June 9, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Naval Academy Candidate Application Package; USNA Forms 1110/7, 1110/21, 5500/1, 5710/1, 1531/11, 1531/16, and 1531/17; OMB Control Number 0703-0036.

Type of Request: Reinstatement.

Request for Information

Number of Respondents: 26,500.

Responses per Respondent: 1.

Annual Responses: 26,500.

Average Burden per Response: 5 minutes.

Annual Burden Hours: 2,208.

International Applicant Nominations

Number of Respondents: 128.

Responses per Respondent: 1.

Annual Responses: 128.

Average Burden per Response: 5 minutes.

Annual Burden Hours: 11.

Preliminary Application

Number of Respondents: 16,000.

Responses per Respondent: 1.

Annual Responses: 16,000.

Average Burden per Response: 60 minutes.

Annual Burden Hours: 16,000.

Application Process

Number of Respondents: 14,000.

Responses per Respondent: 1.

Annual Responses: 14,000.

Average Burden per Response: 120.96 minutes.

Annual Burden Hours: 28,225.

Recommendations and Evaluations

Number of Respondents: 70,775.

Responses per Respondent: 1.

Annual Responses: 70,775.

Average Burden per Response: 59.61 minutes.

Annual Burden Hours: 70,317.

Accepted Candidate Package

Number of Respondents: 1,200.

Responses per Respondent: 4.23.

Annual Responses: 5,079.

Average Burden per Response: 64.03 minutes.

Annual Burden Hours: 5,420.

Total

Number of Respondents: 128,603.

Annual Responses: 132,482.

Annual Burden Hours: 122,181.

Needs and Uses: This information requirement is used to determine the eligibility, competitive standing, and the scholastic and leadership potential of candidates for an appointment to the United States Naval Academy (USNA). Prior performance, including academic achievements, involvement in extracurricular activities and performance in leadership positions, has been found to be an excellent predictor of success. Without this information, the Naval Academy's ability to recruit qualified candidates will be seriously impacted. An analysis of the information collected is made by the Admissions Board in order to gauge the qualifications of individual candidates. Respondents are applicants for admission to the USNA, persons interested in applying for admission to the USNA, school officials for those applicants, Chain of Command officials for active duty applicants, person's providing recommendations for applicants, Blue and Gold Officers, Embassy or Naval Attachés for international applicants from other countries, and local law enforcement officials.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: May 5, 2023.
Aaron T. Siegel,
Alternate OSD Federal Register Liaison Officer, Department of Defense.

[FR Doc. 2023-09925 Filed 5-9-23; 8:45 am]

BILLING CODE 5001-06-P